NATIONAL SCIENCE FOUNDATION

Advisory Committee for Mathematical and Physical Sciences; Notice of Meeting

In accordance with the Federal Advisory Committee Act (Pub. L. 92-463, as amended), the National Science Foundation (NSF) announces the following meeting:

Name and Committee Code: Advisory Committee for Mathematical and Physical Sciences (#66).

Date and Time: November 8, 2023; 10:00 a.m. to 5:15 p.m.; November 9, 2023: 8:55 a.m. to 2:40 p.m.

Place: NSF, 2415 Eisenhower Avenue, Alexandria, VA 22314/Hybrid participation for AC Members, Presenters, Visitors and Guests.

To attend the meeting in person, all visitors must contact the Directorate for Mathematical and Physical Sciences at least 48 hours prior to the meeting to arrange for a visitor's badge. All visitors must access NSF via the Visitor Center entry adjacent to the south building entrance on Eisenhower Avenue on the day of the meeting to receive a visitor's badge. It is suggested that visitors allow time to pass through security screening.

To attend the virtual meeting, please send your request for the virtual meeting link at least 48 hours prior to the meeting.

Please send all requests for virtual or in-person meeting access to Catalina Achim at cachim@nsf.gov.

Type of Meeting: Open.

Contact Person: Catalina Achim, National Science Foundation, 2415 Eisenhower Avenue, Room E9335, Alexandria, Virginia 22314; Telephone: 703/292-2048.

Meeting Information: http://www.nsf.gov/mps/advisory.jsp.

Purpose of Meeting: To provide advice, recommendations and counsel on major goals and policies pertaining to MPS programs and activities.

Agenda

Wednesday, November 8, 2023

• Call to Order and Official Opening of the Meeting

• Approval of Prior Meeting Minutes—MPSAC Chair

• MPS Update by Assistant Director

• Science Highlight

• Report by the Division of Astronomy Committee of Visitors

• Report by the MPS AC Subcommittee on Facilities and Major Research Infrastructure

• Update on the Next-Generation Gravitational Wave Observatory Subcommittee (NextGenGW SC) Report

• TIP Update

• Waterman Award Debrief

• Preparation for Discussion with NSF Director, NSF Chief Operating Officer, and NSF Director's Chief of Staff

• Closing Remarks and Adjourn Day 1

Thursday, November 9, 2023

• Welcome and Overview of Agenda

• DEIA Update

• Report by the Division of Materials Research Committee of Visitors

• MPS Engagement Request

• Preparation for Discussion with NSF Director, NSF Chief Operating Officer and NSF Director's Chief of Staff

• Meeting and Discussion with NSF Director, NSF Chief Operating Officer, and NSF Director's Chief of Staff

• Closing Remarks and Adjourn Day 2

Dated: September 25, 2023.
Crystal Robinson,
Committee Management Officer.

[FR Doc. 2023-21265 Filed 9-27-23; 8:45 am]

BILLING CODE 7555-01-P